DEPARTMENT OF AGRICULTURE

Forest Service

Payette and Boise National Forests; Valley County, Idaho; Stibnite Gold Project Environmental Impact Statement

AGENCY: Forest Service, USDA.

ACTION: Notice of intent to prepare an environmental impact statement.

SUMMARY: The Payette National Forest (PNF) is preparing an Environmental Impact Statement (EIS) to evaluate and disclose the potential environmental effects from: (1) Approval of the “Stibnite Gold Project Plan of Restoration and Operations” (Plan) submitted by Midas Gold Idaho, Inc. (Midas Gold) in September 2016, to occupy and use National Forest System (NFS) lands for operations associated with open-pit mining and ore processing; and (2) related amendments to the Payette National Forest Land and Resource Management Plan (Payette Forest Plan, 2003) and/or the Boise National Forest Land and Resource Management Plan (Boise Forest Plan, as amended in 2010).

The United States Army Corps of Engineers (USACE) will cooperate on the preparation of the EIS and evaluate its content to ensure that the EIS can be adopted by the USACE to support an eventual decision to either issue, issue with conditions, or deny a Department of the Army Permit under Section 404 of the Clean Water Act (CWA) for the Plan. The United States Environmental Protection Agency (EPA) will cooperate on the preparation of the EIS and evaluate its content to ensure that the EIS can be adopted in support of the decision-making process for issuance of a National Pollutant Discharge Elimination System (NPDES) Permit under Section 402 of the CWA.

DATES: Comments concerning the scope of the analysis must be received by July 20, 2017.

ADDRESSES: Webform submission of comments is encouraged. Comments can be submitted via the project Web page at http://www.fs.usda.gov/goto/payette/StibniteGold by selecting the “Comment on Project” link on the right side of the page. Written comments may also be sent to Payette National Forest, ATTN: Forest Supervisor Keith Lannom—Stibnite Gold EIS, 500 N. Mission St., McCall, Idaho 83638. Comments may also be sent via email with a subject line reading “Stibnite Gold EIS Scoping Comment” to comments-intermtn-payette@fs.fed.us or via facsimile (FAX) to 1-208-634-0744. Additional information regarding submittal of comments is provided below in the Scoping Process section. Written comments may also be submitted during public scoping meetings that will be held by the U.S. Forest Service (Forest Service), as follows:

1. June 27, 2017, 5:00-7:00 p.m., Ashley Inn, Cascade, Idaho

2. June 28, 2017, 5:00-7:00 p.m., Payette Forest Supervisor's Office, McCall, Idaho

3. June 29, 2017, 1:00-3:00 and 5:00-7:00 p.m., Holiday Inn Express and Suites (Airport), Boise, Idaho

FOR FURTHER INFORMATION CONTACT: Brian Harris, Public Affairs Officer, at 1-208-634-0784 or bdharris@fs.fed.us.

Individuals who use telecommunication devices for the deaf (TDD) may call the Federal Information Relay Service (FIRS) at 1-800-877-8339 between 8 a.m. and 8 p.m., Eastern Time, Monday through Friday.

SUPPLEMENTARY INFORMATION: The Stibnite Gold Project (Project) is located in both the PNF and BNF. The PNF will be the lead unit for processing and administering the Plan on NFS lands.

Purpose and Need for Action

The purpose of the Forest Service's action is to provide for approval of the Plan, which would govern occupancy and use of NFS lands for operations that are reasonably incident to mining. To provide for such approval, the Responsible Official needs to determine whether reasonable changes or additions to the Plan are necessary in order to meet the requirements of regulations set forth in 36 CFR 228 Subpart A and other applicable laws, regulations, or policies, prior to approval.

Midas Gold submitted a plan of operations for mining on NFS lands, titled “Stibnite Gold Plan of Restoration and Operations” (Plan) to the Forest Service in September 2016, in accordance with Forest Service regulations for locatable minerals set forth at 36 Code of Federal Regulations (CFR) 228 Subpart A. In order to comply with its statutory and regulatory obligations to respond to the Plan submitted by Midas Gold Idaho, Inc. (Midas Gold), the Forest Service must: (1) Evaluate the Plan; (2) consider requirements set forth at 36 CFR 228.8, including those to minimize adverse effects to the extent feasible, comply with applicable laws, regulations, and standards for environmental protection, and provide for reclamation; and (3) respond to the Plan as set forth at 36 CFR 228.5(a). The Responsible Official determined the Plan to be administratively complete in December 2016. Approval of the Plan and issuance of permits under the CWA would be major federal actions subject to the National Environmental Policy Act (NEPA). Accordingly, the federal land management and regulatory agencies must also prepare an EIS to consider and publicly disclose the potential environmental effects of the proposed action.

Proposed Action

The Responsible Official proposes to approve the Plan submitted by Midas Gold, with any modifications determined necessary through the analysis to comply with applicable laws and regulations. USACE would review the Plan and EIS for purposes of evaluating Midas Gold's application for a Department of the Army Permit under Section 404 of the CWA. EPA would review the Plan and EIS for purposes of evaluating Midas Gold's application for a related NPDES Permit under Section 402 of the CWA. As described in the Plan, the Project would affect federal, state, and private lands. The proposed action by the Forest Service would only authorize approval of mining-related operations on NFS lands, because the Forest Service does not have jurisdiction to regulate mining operations that occur on private or state land. However, the EIS will consider and disclose environmental effects of mining-related operations that would occur on private and state lands. Connected actions related to the Plan, including but not necessarily limited to CWA permitting by USACE and EPA and related amendments of the Payette and Boise Forest Plans, will be considered. Impacts of past, present, ongoing, and reasonably foreseeable future actions in the Project area will be considered in combination with the impacts of the Project to estimate the potential cumulative impacts of Project implementation.

Project Location

The Project area is located in the upper East Fork of the South Fork of the Salmon River (EFSFSR) drainage, approximately 44 air miles northeast of the City of Cascade and three miles east of the Frank Church-River of No Return Wilderness in Valley County, Idaho. Operations would impact approximately 500 acres of patented mining claims owned or controlled by Midas Gold and approximately 1,500 acres of federal public lands comprised of adjacent NFS lands administered by the PNF and two supporting-infrastructure corridors located primarily in the BNF. Parts of the Project area, such as the Stibnite mine site, have been impacted by historic mining and ore processing operations. Some of these impacts have been remediated, but legacy mining impacts remain.

Project Description

Midas Gold's stated objective is to economically develop and operate a modern mine, while providing environmental restoration of impacts related to historic mining activities at the site and socioeconomic benefits in surrounding areas. Midas Gold's Plan includes descriptions of the following operations and activities to be conducted on a mixture of NFS, State, and private lands:

• Redevelopment and Construction (2 to 3 years): Developing supporting infrastructure, including upgraded and reconstructed powerline, communication sites, upgraded and/or new roads (including a long-term, temporary mine access and public by-pass route), maintenance facility, and onsite housing, oxygen plant, and water management infrastructure; relocation and reuse of spent ore and construction of a lined tailings storage facility; modifying stream channel to reduce sedimentation and restore wetland function and fish passage (including temporarily rerouting the East Fork of the South Fork of the Salmon River [EFSFSR] through a fish-passable tunnel); planting burned areas; initial mining of one open pit (which will require closure of the Stibnite road through the mine site); and constructing development rock storage and temporary ore stockpile facilities, crusher, and ore processing facilities.

• Mining and Ore Processing (12 to 15 years): Resuming mining from two historical and one new open pit at a rate of approximately 40,000 to 100,000 tons of material per day; processing up to 25,000 tons per day of ore to recover gold/silver dorè and antimony concentrate; historical tailings reprocessing and clean-up; placing neutralized new and reprocessed tailings in the tailings storage facility; placing development rock in four engineered facilities, backfilling Yellow Pine pit; and concurrent reconstruction of stream channels, riparian areas, wetlands, and upland habitat, including restoring the EFSFSR to its approximate original gradient across the backfilled Yellow Pine pit.

• Initial Closure and Reclamation (2 to 3 years): Removing structures and facilities; decommissioning temporary roads; recontouring and drainage; additional wetland mitigations; reconstructing the Stibnite Road and various stream channels in the project area; and growth media placement and revegetation.

• Post-Closure and Monitoring (5 to 7 years): Establishing a wetland on top of the tailings storage facility; reclaiming rock storage facilities; monitoring reclamation and remediation projects.

The Plan includes operational standards and practices to minimize, mitigate or eliminate the potential for negative impacts and environmental monitoring to document compliance and to facilitate adaptive management through the redevelopment, mining, reclamation, and post-closure periods.

An initial review of the consistency of the Plan with both the Payette and Boise Forest Plans indicates that approval of the Plan as submitted would result in conditions that are inconsistent with the forest plans. Amendments to the forest plans may be required to address inconsistencies with Forest Plan standards including standards for recreation, roadless areas, vegetation, visual quality, and wildlife.

Possible Alternatives

The EIS will disclose the effects of the no-action alternative, which, while not within the Responsible Official's discretion, would provide a baseline against which action alternatives can be compared, and the proposed action, approval of Midas Gold's Plan. Additional alternatives and Project design features may be evaluated in the EIS. Alternatives and design features determined reasonable and necessary to meet Forest Service regulations for locatable minerals set forth at 36 CFR 228 Subpart A may require changes and/or additions to the Plan. Further information regarding the nature of the decision(s) to be made is presented in the following section.

Lead and Cooperating Agencies

The Forest Service will be the lead agency preparing the EIS. Currently, five Cooperating agencies have been identified, they are:

—U.S. Environmental Protection Agency (EPA)

—U.S. Army Corps of Engineers (USACE)

—Idaho Department of Lands

—Idaho Department of Environmental Quality

—Governor's Office of Energy and Mineral Resources

Other agencies or governmental entities may join as cooperators during the process.

Responsible Official

The Forest Supervisor of the PNF has been delegated authority for decisions related to the Plan on the BNF and will be the Responsible Official who prepares the record of decision (ROD) necessary to approve the portions of the Plan on NFS lands. USACE and EPA will prepare final decisions for their respective permitting action(s).

Nature of Decision To Be Made

The Responsible Official will consider the beneficial and adverse impacts of each alternative. With respect to the portions of the Plan on NFS lands, the Forest Service Responsible Official has discretion to determine whether changes in, or additions to, the Plan will be required prior to approval. However, the Responsible Official cannot categorically prohibit operations that are reasonably incident to mining of locatable minerals on NFS lands in the area of the proposed Plan.

Using the analysis in the EIS and supporting documentation, the Forest Service Responsible Official will make the following decisions regarding the Plan:

1. Decide whether to approve the Plan as submitted by Midas Gold, or to require changes or additions to the Plan to meet the requirements for environmental protection and reclamation set forth at 36 CFR 228 Subpart A before approving a final Plan. The Forest Service decision may be to approve a plan of operations composed of elements from one or more of the alternatives considered. The alternative that is selected for approval in the final Plan must minimize adverse impacts on NFS surface resources to the extent feasible.

2. Decide whether to approve amendments to the forest plans, if required in order to approve the final Plan.

3. Decide whether and/or how to mitigate the effects of the proposed mining operation to existing public motorized access.

Final EIS and Record of Decision

The Forest Service would release a draft ROD in conjunction with the final EIS. The draft ROD would address approval of the Plan, and any related project-specific Forest Plan or Travel Plan amendments that may be required. The draft decision would be subject to 36 CFR 218, “Project-Level Pre-decisional Administrative Review Process.” Depending on the nature of the forest plan amendments required, the draft decisions may also be subject to 36 CFR 219 Subpart B, “Pre-decisional Administrative Review Process.”

Following resolution of objections to the draft ROD, a final ROD would be issued. As the operator, Midas Gold would have an opportunity to appeal the decision as set forth at 36 CFR 214, “Postdecisional Administrative Review Process for Occupancy and Use of National Forest System Lands and Resources.”

Prior to approval of the Plan, Midas Gold may be required to modify the September 2016 Plan to comply with the description of the selected alternative in the final ROD. In addition, the PNF Forest Supervisor would require Midas Gold to submit a reclamation bond or provide proof of other acceptable financial assurance to ensure that NFS lands and resources involved with the mining operation are reclaimed in accordance with the approved Plan and Forest Service requirements for environmental protection (36 CFR 228.8 and 228.13). After the Forest Service has determined that the Plan conforms to the ROD as well as other regulatory requirements, including acceptance of financial assurance for reclamation, it would approve the Plan. Implementation of mining operations that affect NFS lands and resources may not commence until the reclamation bond or other financial assurance is in place and a plan of operations is approved.

Preliminary Issues

Issues to be analyzed in the EIS will be developed during this scoping process. Preliminary issues expected to be analyzed include potential impacts to: Access and transportation; aesthetics and visual resources; botanical resources, including wetlands and threatened, endangered, proposed, and sensitive species; climate and air quality; cultural and heritage resources; environmental justice; federal land management and environmental protection; fire and fuels management; fisheries and wildlife, including threatened, endangered, proposed, and sensitive species; geochemistry; geology; hazardous materials; land use; long-term, post-closure site management; noise; public health and safety; recreation; roadless and wilderness resources; socioeconomics; soils and reclamation cover materials; timber resources; water resources (groundwater and surface water); and water rights.

Permits or Licenses Required

Aspects of the Plan will also require other permitting, including by the Idaho Departments of Lands, Environmental Quality, and Water Resources.

Scoping Process

This notice of intent initiates the scoping (public involvement) process, which guides the development of the EIS. Public comments may be submitted to the PNF in a variety of ways, including: via email, via the project Web site, by mail, and via FAX. In addition, the PNF will conduct scoping meetings, during which members of the public can learn about the Forest Service proposed action and the NEPA process and submit written comments. Comments sought by the PNF include comments specific to the proposed action, information that could be pertinent to analysis of environmental effects, identification of significant issues, and identification of potential alternatives.

Written comments may be sent to: Payette National Forest, ATTN: Forest Supervisor Keith Lannom—Stibnite Gold EIS, 500 N. Mission St., McCall, ID 83638. Comments may also be sent via email with a Subject Line reading “Stibnite Gold EIS Scoping Comment” to comments-intermtn-payette@fs.fed.us, submitted via Web site at http://www.fs.usda.gov/goto/payette/StibniteGold, or sent via FAX to 1-208-634-0744.

It is important that reviewers provide their comments at such times and in such manner that they are useful to preparation of the EIS. Therefore, to be most useful, comments should be provided prior to the close of the scoping comment period and should clearly articulate the reviewer's concerns and contentions.

Comments submitted anonymously will be accepted and considered; however, without an associated name and address, receiving further correspondences concerning the proposed action will not be possible and those individuals will not have standing for objection.

Dated: May 12, 2017.
Robert M. Harper,
Acting Associate Deputy Chief, National Forest System.

[FR Doc. 2017-11483 Filed 6-2-17; 8:45 am]

BILLING CODE 3411-15-P